ENVIRONMENTAL PROTECTION AGENCY

[FRL-7599-4]

Notice of the Availability of the Final Document for the U.S.-Mexico Border 2012 Program

AGENCY: Environmental Protection Agency (EPA).

ACTION: Notice.

SUMMARY: The U.S. Environmental Protection Agency announces the availability of the “Border 2012: U.S.-Mexico Environmental Program” Framework Document (Border Plan or Border 2012). Border 2012 is a 10-year, binational, results-oriented, environmental program for the U.S.-Mexico border region, which has been developed by EPA, Secretaría del Medio Ambiente y Recursos Naturales (SEMARNAT, Mexico's Secretariat of Environment and Natural Resources), the U.S. Department of Health and Human Services, Secretaría de Salud (Mexico's Secretariat of Health), the U.S. border Tribes, and the environmental agencies from each of the ten U.S.-Mexico border States. The mission of Border 2012 is to protect public health and the environment in the U.S.-Mexico border region, in a manner consistent with the principles of sustainable development. The Border 2012 Program is the latest multi-year, binational planning effort to be implemented under the La Paz Agreement and succeeds Border XXI, a five-year program that ended in 2000.

The proposed Border 2012 Program was announced in Mexico and in the U.S. Federal Register in September 2002. The announcement was followed by a 60-day public comment period which included binational and domestic meetings in 27 border cities. EPA and SEMARNAT also requested input from interested parties through additional meetings, written correspondence, and internet exchanges. During the comment period, over 1,000 individual comments were received. The Border 2012 Framework was then altered to reflect many of the comments and recommendations; the new framework contains more detailed goals and objectives and a focus on environmental education and training. In addition, based on public comments, the Border 2012 Operational Guidance was created to assist partners, stakeholders, and the general public to understand how the program is implemented. The Border 2012 Framework Document, the Response Summary Report, and the Operational Guidance can be found online at http://www.epa.gov.usmexicoborder.

SUPPLEMENTARY INFORMATION:

I. Background

The proposed Border 2012 emphasizes a bottom-up approach, anticipating that local decision-making, priority-setting and project implementation will best address environmental issues in the border region. The new Border 2012 Program builds upon the successes achieved under Border XXI while also establishing a regionally-focused border plan to facilitate environmental priority setting and planning at the regional and local levels. Border 2012 will emphasize concrete measurable results, public participation, transparency, and timely access to environmental information.

II. Coordinating Bodies

Border 2012 is organized around coordinating bodies. These coordinating bodies include National Coordinators, four Regional (geographically-focused) Workgroups, three Border-wide Workgroups, and three Policy Forums.

A. National Coordinators

Consistent with the requirements of the La Paz Agreement, the National Coordinators will monitor and manage implementation of the Border 2012 Program and ensure cooperation and communication among all coordinating bodies.

B. Regional Workgroups

Providing the foundation of the Border 2012 Program, four multi-media, regionally focused workgroups will support the efforts of local Task Forces and coordinate activities at the regional and local level. The Regional Workgroups are the following: California-Baja California, Arizona-Sonora, New Mexico-Texas-Chihuahua, and Texas-Coahuila-Nuevo Leon-Tamaulipas.

C. Border-wide Workgroups

Border-wide Workgroups will concentrate on issues that are multi-regional and primarily federal in nature. Three Border-wide Workgroups will have federal U.S. and Mexican co-chairs for the following issues: environmental health, emergency preparedness and response, and cooperative enforcement and compliance.

D. Policy Forums

Policy Forums will have a media-specific focus and will concentrate on broad policy issues that require an on-going dialogue between the U.S. and Mexico in the following areas: air; water; hazardous waste, solid waste, and toxic substances.

Border 2012 Coordinating Bodies will be broad-based and will include representation from local communities from both sides of the border, including non-governmental or community-based organizations; academic institutions; local, state, and U.S. tribal representatives; and binational organizations.

III. Goals and Objectives

Border 2012 establishes the following six border-wide environmental goals for the U.S.-Mexico border region: reduce water contamination; reduce air pollution; reduce land contamination; improve environmental health; reduce exposure to chemicals as a result of accidental chemical release and/or acts of terrorism; and improve environmental performance through compliance, enforcement, pollution prevention, and promotion of environmental stewardship.

For further information on Border 2012, please contact: EPA El Paso Border Office at 915-533-7273 or 800-334-0741 or EPA San Diego Border Office at 619-235-4765 or 800-334-0741. Hard copies of the Border 2012 Framework document can be obtained by calling 1-800-490-9198 or accessing http://www.epa.gov/ncepihom on the Internet and requesting public document #160R03001.

Dated: December 10, 2003.
Joan Fidler,
Director Office of Western Hemisphere and Bilateral Affairs, Office of International Affairs.

[FR Doc. 03-31006 Filed 12-15-03; 8:45 am]

BILLING CODE 6560-58-P